DEPARTMENT OF HEALTH AND HUMAN SERVICES

Health Resources and Services Administration

Negotiated Rulemaking Committee on Designation of Medically Underserved Populations and Health Professional Shortage Areas; Notice of Meeting

In accordance with section 10(a)(2) of the Federal Advisory Committee Act (Pub. L. 92-463), notice is hereby given of the following meeting:

Name: Negotiated Rulemaking Committee on Designation of Medically Underserved Populations and Health Professional Shortage Areas.

Date and time: September 22, 2010, 9:30 a.m. to 5 p.m.

September 23, 2010, 9 a.m. to 4:30 p.m.

September 24, 2010, 9 a.m. to12 p.m.

Place: The Legacy Hotel, Georgetown Room, 1775 Rockville Pike, Rockville, Maryland 20852, (301) 881-2300.

Status: The meeting will be open to the public.

Purpose: The purpose of the Negotiated Rulemaking Committee on Designation of Medically Underserved Populations and Health Professional Shortage Areas is to establish a comprehensive methodology and criteria for Designation of Medically Underserved Populations and Primary Care Health Professional Shortage Areas, using a Negotiated Rulemaking (NR) process. It is hoped that use of the NR process will yield a consensus among technical experts and stakeholders on a new rule, which will then be published as an Interim Final Rule in accordance with Section 5602 of Public Law 111-148, the Patient Protection and Affordable Care Act of 2010.

Agenda: The meeting will be held on Wednesday, September 22, Thursday, September 23 and Friday, September 24, and will include an orientation to the negotiated rulemaking process, ground rules for Committee operations, and an overview of the key topics on which the Committee will explore and seek consensus. The Friday morning meeting will include development of the agenda for the next meeting, as well as an opportunity for public comment.

FOR FURTHER INFORMATION CONTACT: For more information, please contact Lauren Krantz, Office of Shortage Designation, Bureau of Health Professions, Health Resources and Services Administration, Room 9A-18, Parklawn Building, 5600 Fishers Lane, Rockville, Maryland 20857, Telephone (301) 443-9027, E-mail lkrantz@hrsa.gov, or visit http://bhpr.hrsa.gov/shortage/.

SUPPLEMENTARY INFORMATION: Requests from the public to make oral comments or to provide written comments to the Committee should be sent to Lauren Krantz at the contact address above at least 10 days prior to the meeting. The meetings will be open to the public as indicated below, with attendance limited to space available. Individuals who plan to attend and need special assistance, such as sign language interpretation or other reasonable accommodations, should notify the Contact Person listed above at least 10 days prior to the meeting. Members of the public will have the opportunity to provide comments at the Friday morning meeting.

Dated: September 1, 2010.
Sahira Rafiullah,
Director, Division of Policy and Information Coordination.

[FR Doc. 2010-22194 Filed 9-3-10; 8:45 am]

BILLING CODE 4165-15-P